DEPARTMENT OF HEALTH AND HUMAN SERVICES

Centers for Disease Control and Prevention

Delegation of Authority

Notice is hereby given that pursuant to Section 222 of the Public Health Service Act [42 U.S.C. 217a], as amended, I have delegated to the Director, Centers for Disease Control and Prevention (CDC), authority to appoint temporary members to the National Institute for Occupational Safety and Health's Safety and Occupational Health Study Section (SOHSS). This authority may be redelegated by the CDC Director.

This delegation supersedes the June 7, 2016, delegation concerning this authority.

This delegation became effective upon date of signature. In addition, I affirmed and ratified any actions taken by the Director, CDC or her subordinates that involved the exercise of the authorities delegated herein, or substantially similar authorities vested in me by prior annual HHS appropriations acts, prior to the effective date of the delegation.

Dated: November 2, 2021.
Xavier Becerra,
Secretary.

[FR Doc. 2021-24249 Filed 11-4-21; 8:45 am]

BILLING CODE 4160-18-P